DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Canadian Pacific Railway

[Waiver Petition Docket Number FRA-2010-0024]

The Canadian Pacific Railway (CP) hereby petitions FRA for a temporary waiver from 49 CFR Part 213, subpart C, to develop and test pilot an “unattended” track geometry measurement system. Over the course of 6 months, CP intends to test the new system on their Northeast U.S. main line between Rouses Point and Binghamton, New York, a distance of approximately 315 miles. The project includes outfitting and deploying an unattended track geometry measurement system that will be used in conjunction with other automated systems to monitor overall track infrastructure condition on a frequency that is not possible today.

CP asserts that the benefits that are expected to be derived from this system are as follows:

• Increased geometry inspections over what is possible today (anticipated 400% increase) resulting in improved infrastructure reliability;

• Proactive instead of reactive track maintenance will result in improved infrastructure condition and therefore a safer operation;

• Scheduled maintenance and repair activities will reduce unscheduled employee call outs and therefore also reduce fatigue related risk to employees;

• Reduction of track geometry which will cause slow orders; and

• Improved passenger train performance at a reduced level of risk.

The project is currently in the planning phase. CP indicates that if FRA agrees, the build, design and test phase of the project could commence in late 2010. Testing would then occur in early 2011. It is the testing phase of the project that is the subject of this waiver application. In order to proceed with this pilot project, CP is seeking a temporary waiver from 49 CFR part 213, subpart C, such that all measurements and data produced by the new track geometry vehicle are deemed “not valid” and “immaterial” for the purpose of track geometry verification. The data produced during the 6 month test period will be used solely for the purposes of mapping and for false positive rejection development, and CP is requesting regulatory relief for the initial 6-month period when the new equipment is being evaluated and tested.

CP further explains that it will adhere to all regulated track inspection processes while the new track geometry equipment is being tested. All track defects identified through the normal inspection processes will be corrected according to current processes and procedures designed to comply with FRA's track safety standards. The waiver that is being requested will only apply to information that is developed through the use of the new geometry technology during the initial 6 month testing and evaluation phase of the project.

CP further explains that it does not expect that the waiver would apply to the regular, manned track geometry inspection, which CP will continue to perform 3 times annually until such time as the new technology is proven reliable. Following the 6 month testing and evaluation phase of the project and assuming that the benefits of the system prove out, CP indicates that it request further regulatory relief from FRA.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0024) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on October 18, 2010.
Robert C. Lauby,
Deputy Associate Administrator for Regulatory and Legislative Operations.

[FR Doc. 2010-26783 Filed 10-21-10; 8:45 am]

BILLING CODE 4910-06-P